DEPARTMENT OF DEFENSE

GENERAL SERVICES ADMINISTRATION

NATIONAL AERONAUTICS AND SPACE ADMINISTRATION

48 CFR Parts 1, 4, 19, and 52

[FAR Case 2010-014; Docket 2010-0014; Sequence 1]

RIN 9000-AL99

Federal Acquisition Regulation; Updates to Contract Reporting and Central Contractor Registration

AGENCIES: Department of Defense (DoD), General Services Administration (GSA), and National Aeronautics and Space Administration (NASA).

ACTION: Proposed rule.

SUMMARY: DoD, GSA, and NASA are proposing to amend the Federal Acquisition Regulation (FAR) to limit the use of generic substitutes instead of Data Universal Numbering System (DUNS) numbers, and update the policies and procedures associated with reporting in the Federal Procurement Data System (FPDS). Additionally, changes are proposed for the clauses requiring contractor registration in the Central Contractor Registration (CCR) database and DUNS number reporting.

DATES: Interested parties should submit written comments to the Regulatory Secretariat at one of the addresses shown below on or before January 30, 2012 to be considered in the formation of the final rule.

ADDRESSES: Submit comments in response to FAR case 2010-014 by any of the following methods:

• Regulations.gov: http://www.regulations.gov. Submit comments via the Federal eRulemaking portal by inputting “FAR Case 2010-014” under the heading “Enter Keyword or ID” and selecting “Search.” Select the link “Submit a Comment” that corresponds with “FAR Case 2010-014.” Follow the instructions provided at the “Submit a Comment” screen. Please include your name, company name (if any), and “FAR Case 2010-014” on your attached document.

• Fax: (202) 501-4067.

• Mail: General Services Administration, Regulatory Secretariat (MVCB), ATTN: Hada Flowers, 1275 First Street NE., 7th Floor, Washington, DC 20417.

Instructions: Please submit comments only and cite FAR Case 2010-014, in all correspondence related to this case. All comments received will be posted without change to http://www.regulations.gov, including any personal and/or business confidential information provided.

FOR FURTHER INFORMATION CONTACT: Ms. Clare McFadden, Procurement Analyst, at (202) 501-0044 for clarification of content. For information pertaining to status or publication schedules, contact the Regulatory Secretariat at (202) 501-4755. Please cite FAR Case 2010-014.

SUPPLEMENTARY INFORMATION:

I. Background

For decades, the DUNS number provided by Dun & Bradstreet (D&B) has been the Federal Government's unique identifier for contractors. It is used to (1) Uniquely identify a contractor entity, and (2) to roll-up Government procurements to the ultimate parent organization to show the corporate family receiving U.S. obligations. Furthermore, the DUNS number is the identifier for the FPDS and for the Federal Funding Accountability and Transparency Act of 2006 (Transparency Act) reporting to USAspending.gov.

Due to legitimate challenges encountered with overseas contracting, a practice existed using a generic DUNS number, such as “Miscellaneous Foreign Vendor” to enable accounting of the obligation without explicit identification of the vendor, i.e., foreign local contractors where D&B registration is impracticable, or foreign contractors when identification may endanger the contractor.

When a generic DUNS number is used, the identity of the contractor is masked beyond the local contracting office. The contractor's identification for all downstream reporting processes is the name of the generic DUNS number, for example, “Miscellaneous Foreign Vendor”.

The practice of using generic DUNS numbers adversely affects the transparency of the Government's data, including Transparency Act contract reporting. Also, the contractor is not able to access and perform its own reporting requirements, such as Transparency Act subcontract reporting, because the contract is not associated with the contractor in Federal-wide processes. As such, the use of a generic DUNS number should be limited to those actions where it is truly necessary. The proposed rule includes requirements intended to more strictly limit the use of the generic DUNS number to foreign contract actions valued at or below $25,000.

For greater transparency and clarification, updates or corresponding changes in procedures and clauses proposed in FAR parts 1, 4, 19, and 52 are related to the use of the DUNS number, and CCR and FPDS reporting.

II. Proposed Changes to FAR

A. Changes to FAR Part 1

FAR part 1.106 is updated to include clauses 52.204-XX, Data Universal Numbering System DUNS) Maintenance and 52-204-YY, Central Contractor Registration (CCR) Maintenance, to existing OMB Paperwork Reduction Act Approvals.

B. Changes to FAR Part 4

FAR 4.603, Policy, paragraphs (a) and (b) are clarified to indicate that contract reporting for the Transparency Act, and in FPDS, shall be made on all unclassified contract actions. This is to emphasize that classified contract actions are exempt from being reported.

FAR 4.603(c) is amended to update the name of the FPDS data field from “Funding Agency” to “Program/Funding Agency” and indicate that the “Office Codes” must also be reported by each agency in FPDS. The National Institute of Standards and Technology (NIST) reference was removed since NIST retired its report and the data will be maintained now in FPDS only. FAR 4.603(d) language encouraging FAR-exempt agencies to report contract actions in FPDS is deleted.

FAR 4.604, Responsibilities, proposed amendments include changes to paragraph (b) to add procedures clarifying the contracting officer's responsibility to complete rather than submit the contract action report (CAR) and that when there is a draft or error status, it is not considered complete. Paragraph (b)(2) is amended to include a timeline of three business days for completion of the CAR regardless of whether the contract writing system is integrated with FPDS or not. Paragraph (b)(3), which provided a timeline of three business days, was deleted and combined with paragraph (b)(2).

At FAR 4.604(c), it is proposed that the Chief Acquisition Officer of each agency now submit its annual certified CAR data report to GSA within 120 days after the end of each fiscal year.

FAR 4.605, Procedures, is proposed for revision to clarify when a generic DUNS number can be used. A new paragraph (c) labeled “Generic Duns” is proposed, to discourage use of generic DUNS numbers. Additionally, tighter controls for use of the generic DUNS numbers are established by deleting language indicating that the contracting officer could use generic DUNS numbers identified in CCR. The procedures for use of a generic DUNS number are revised and moved from FAR 4.605(b) to FAR 4.605(c). The proposed generic DUNS number requirements are similar to existing language at FAR 4.605(b) except that use of a generic DUNS number will be limited to contract actions valued at or below $25,000, or contracts awarded to individuals for performance overseas. The classified or national security circumstance for using a generic DUNS number will be deleted. The intent is to limit use of generic DUNS numbers to small dollar value contract actions, or contracts awarded to individuals for performance overseas, and to clarify that contract actions in which the required data would constitute classified information shall not be reported. At FAR 4.605(c)(2)(iii), language was added to require that a written determination be in the file explaining the decision to use a generic DUNS as a protection from harm to the mission, contractor, or customer. A determination is required because use of a generic number is contrary to the Transparency Act requirements to make publicly available the total amount of Federal funding awarded to a contractor.

FAR 4.606, Reporting Data, paragraph (b) was clarified to inform agencies subject to the FAR that actions other than those required to be reported under FAR 4.606(a) may be reported in FPDS only when the actions can be segregated from FAR-based actions, and approved by the GSA FPDS Program Office. Existing language requires agencies to contact the FPDS Program Office when they desire to report items listed at FAR 4.606(b); those items listed at FAR (b)(4) through (6), (8), and (9) are now proposed to be actions not to be reported in FPDS under FAR 4.606(c), along with contract actions in which the required data would constitute classified information. Classified actions are not reported to FPDS, since FPDS is not approved to handle classified information, but this is not expressly stated in the FAR, so language is proposed to clarify that classified actions are not to be reported in FPDS. At FAR 4.606(d), agencies not subject to the FAR must first receive approval before reporting information in FPDS, to enable improved internal controls and reporting.

FAR 4.607, Solicitation provisions, is renamed as “Solicitation provisions and contract clause.” A new clause 52.204-XX, Data Universal Numbering System (DUNS) Number Maintenance, was added for contracts not containing the clause at 52.204-YY, Central Contractor Registration Maintenance.

FAR 4.1102, Policy, is changed to clarify that contractors are not required to be registered in CCR prior to micro-purchases made using a Governmentwide purchase card. A change is also proposed to indicate that contracts awarded and performed outside the United States are not required to be registered in CCR, if the contract is less than $25,000. This corresponds to the change associated with the use of the DUNS number at FAR 4.605(c). An exception to CCR registration is added for work outside the United States in danger zones.

At FAR 4.1103(a)(2), DoD, GSA, and NASA updated Federal Service Desk Web site information (http://www.fsd.gov) where CCR registration information can be located.

At 4.1103(b)(3), DoD, GSA, and NASA added language to indicate that when a contract action is awarded under unusual and compelling urgency circumstances (see FAR 6.302-2), the contracting officer shall require the contractor to be registered in CCR within 30 days after contract award, or before three days prior to submission of the first invoice, whichever occurs first. This change will allow, under such circumstances, the contractor to accomplish its reporting requirements (e.g., Transparency Act executive compensation and subaward reporting), and the Government to make more effective use of contractor information in CCR for completing administrative tasks, such as paying invoices.

FAR 4.1105, Solicitation provision and contract clauses, was revised to include the prescription for a new clause at 52.204-YY, Central Contractor Registration Maintenance.

C. Proposed Changes to FAR Part 19

FAR 19.708(b)(1)(iii) was changed to include an additional reference at FAR 4.606(c)(6) for actions not reported in FPDS.

D. Proposed Changes to FAR Part 52

FAR 52.204-6, Data Universal Numbering System (DUNS) Number, was revised to include a definition for DUNS number. FAR 52-204-7(f) and FAR 52-212-4 were updated to include the Federal Service Desk Web site for CCR information.

A new FAR clause at 52.204-XX, Data Universal Numbering System (DUNS) Number Maintenance, was added to ensure that the DUNS number is maintained with D&B throughout the life of the contract. It requires the contractor to communicate any change to the DUNS number to the contracting officer within 30 days after the change, so an appropriate modification can be issued to update the contract data. It also clarifies that a change in the DUNS number does not necessarily require a novation be accomplished.

FAR 52.204-7, Central Contractor Registration, was revised to become a provision. References to contractor requirements at paragraphs (f) and (g) are deleted and moved to the new clause at FAR 52.204-XX, Central Contractor Registration Maintenance. Additionally, updated contact phone numbers are provided where offerors may obtain information on registration and annual confirmation requirements.

Alternate I of FAR 52.204-7 language was added for unusual and compelling urgency awards allowing for CCR registration within 30 days after award or before three days prior to submission of the first invoice, whichever occurs first. This corresponds to the text at FAR 4.1103(b)(3).

A new clause at FAR 52.204-YY, Central Contractor Registration Maintenance, was added. It contains language currently at 52.204-7, which states that the contractor is responsible for the accuracy and completeness of the data within the CCR database, and responsible for any liability resulting from the Government's reliance on inaccurate or incomplete data, and that it is the contractor's responsibility to remain registered in the CCR database after the initial registration, and to review and update on an annual basis information in the CCR database to ensure it is current, accurate, and complete. It contains new language similar to FAR 52.204-XX on the DUNS number.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is a significant regulatory action and, therefore, was subject to review under Section 6(b) of E.O. 12866, Regulatory Planning and Review, dated September 30, 1993. This rule is not a major rule under 5 U.S.C. 804.

IV. Regulatory Flexibility Act

DoD, GSA, and NASA do not expect this proposed rule to have a significant economic impact on a substantial number of small entities within the meaning of the Regulatory Flexibility Act, 5 U.S.C. 601, et seq., because the proposed FAR amendments affect internal Government procedures, or clarify existing procedures. Additionally, the requirement for the contractor to report any changes to their DUNS number to the contracting officer throughout the life of the contract may be rare, but should it occur, the impact may be minimal. Therefore, an Initial Regulatory Flexibility Analysis has not been performed.

DoD, GSA, and NASA invite comments from small business concerns and other interested parties on the expected impact of this rule on small entities.

DoD, GSA, and NASA will also consider comments from small entities concerning the existing regulations in subparts affected by the rule in accordance with 5 U.S.C. 610. Interested parties must submit such comments separately and should cite 5 U.S.C 610 (FAR Case 2010-014), in correspondence.

V. Paperwork Reduction Act

The proposed rule does not contain any information collection requirements that require the approval of the Office of Management and Budget under the Paperwork Reduction Act (44 U.S.C. chapter 35).

List of Subjects in 48 CFR Parts 1, 4, 19, and 52

Government procurement.

William Clark,
Acting Director, Office of Governmentwide Acquisition Policy, Office of Acquisition Policy.

Therefore, DoD, GSA, and NASA propose amending 48 CFR parts 1, 4, 19, and 52 as set forth below:

1. The authority citation for 48 CFR parts 1, 4, 19, and 52 continues to read as follows:

Authority: 40 U.S.C. 121(c); 10 U.S.C. chapter 137; and 42 U.S.C. 2473(c).

PART 1—FEDERAL ACQUISITION REGULATION SYSTEM

1.106 [Amended]

2. Amend section 1.106, in the table following the introductory text, by adding in numerical sequence, FAR segment “52.204-XX” and its corresponding OMB Control Number “9000-0145”, and FAR segment “52.204-YY” and its corresponding OMB Control Number “9000-0159”.

PART 4—ADMINISTRATIVE MATTERS

3. Revise section 4.603 to read as follows:

4.603 Policy.

(a) In accordance with the Federal Funding Accountability and Transparency Act of 2006 (Pub. L. 109-282), all unclassified Federal award data must be publicly accessible.

(b) Executive agencies shall use FPDS to maintain publicly available information about all unclassified contract actions exceeding the micro-purchase threshold, and any modifications to those actions that change previously reported contract action report data, regardless of dollar value.

(c) Agencies awarding assisted acquisitions or direct acquisitions must report these actions and identify the Program/Funding Agency and Office Codes from the applicable agency codes maintained by each agency at FPDS. These codes represent the agency and office that has provided the predominant amount of funding for the contract action.

(d) Agencies awarding contract actions with a mix of appropriated and non-appropriated funding shall only report the full appropriated portion of the contract action in FPDS.

4. Amend section 4.604 by revising paragraphs (b) and (c) to read as follows:

4.604 Responsibilities.

* * * * *

(b)(1) The responsibility for the completion and accuracy of the individual contract action report (CAR) resides with the contracting officer who awarded the contract action. CARs in a draft or error status in FPDS are not considered complete.

(2) The CAR must be confirmed for accuracy by the contracting officer prior to release of the contract award. The CAR must then be completed in FPDS within three business days after contract award.

(3) For any action awarded in accordance with 6.302-2 or pursuant to any of the authorities listed at subpart 18.2, the CAR must be completed in FPDS within 30 days after contract award.

(4) When the contracting office receives written notification that a contractor has changed its size status in accordance with the clause at 52.219-28, Post-Award Small Business Program Representation, the contracting officer must submit a modification contract action report to ensure that the updated size status is entered in FPDS.

(c) The chief acquisition officer of each agency that is required to report its contract actions must submit an annual certification of whether, and to what degree, agency CAR data for the preceding fiscal year is complete and accurate. The certification must be submitted to the General Services Administration (GSA), in accordance with FPDS guidance, within 120 days after the end of each fiscal year.

5. Amend section 4.605 by revising paragraphs (b) and (c); and adding paragraph (d) to read as follows.

4.605 Procedures.

* * * * *

(b) Data Universal Numbering System (DUNS). The contracting officer must identify and report a DUNS number (Contractor Identification Number) for the successful offeror on a contract action. The DUNS number reported must identify the successful offeror's name and address as stated in the offer and resultant contract, and as registered in the Central Contractor Registration (CCR) database in accordance with the clause at 52.204-7, Central Contractor Registration. The contracting officer must ask the offeror to provide its DUNS number by using either the provision at 52.204-6, Data Universal Numbering System (DUNS) Number, the provision at 52.204-7, Central Contractor Registration, or the provision at 52.212-1, Instructions to Offerors—Commercial Items.

(c) Generic DUNS. (1) The use of a generic DUNS should be limited, and only used in the situations described in (c)(2) of this section; this does not supersede the requirements of either provision 52.204-6 or 52.204-7 (if present in the solicitation) for the contractor to have a DUNS number assigned.

(2) An authorized generic DUNS number, maintained by the Integrated Acquisition Environment (IAE) program office (http://www.acquisition.gov), may be used to report contract actions in lieu of the contractor's actual DUNS number only for—

(i) Contract actions valued at or below $25,000 that are awarded to a contractor that is—

(A) A student;

(B) A dependent of a veteran, foreign service officer, or military member assigned overseas; or

(C) Located outside the United States and its outlying areas as defined in 2.101 for work to be performed overseas, and the contractor does not otherwise have a DUNS number;

(ii) Contracts awarded to individuals for performance overseas; or

(iii) Specific public identification of the contracted party could endanger the mission, contractor, or recipients of the acquired goods or services.

(3) The contracting officer must include a written determination in the contract file of the decision, as it is contrary to the Federal Funding Accountability and Transparency Act of 2006 (Pub. L. 109-282).

(d) The contracting officer, when entering data in FPDS, shall use the instructions at https://www.fpds.gov to identify any action funded in whole or in part by the American Recovery and Reinvestment Act of 2009 (Pub. L. 111-5).

6. Amend section 4.606 by—

a. Revising the introductory text of paragraph (b);

b. Removing from paragraph (b)(2) “nonappropriated” and adding “non-appropriated” in its place;

c. Removing paragraphs (b)(4) through (6);

d. Redesignating paragraph (b)(7) as paragraph (b)(4); and

e. Removing paragraphs (b)(8) and (9);

f. Adding paragraphs (c)(6) through (11); and

g. Revising paragraph (d).

The revised added text reads as follows:

4.606 Reporting data.

* * * * *

(b) Reporting Other Actions. Agencies may submit actions other than those listed at paragraph (a)(1) of this section only if they are able to be segregated from FAR-based actions and this is approved in writing by the GSA FPDS Program Office. Prior to the commencement of reporting, agencies must contact the FPDS Program Office at integrated.acquisition@gsa.gov if they desire to submit any of the following types of activity:

* * * * *

(c) * * *

(6) Contract actions in which the required data would constitute classified information.

(7) Resale activity (i.e., commissary or exchange activity).

(8) Revenue generating arrangements (i.e., concessions).

(9) Training expenditures not issued as orders or contracts.

(10) Interagency agreements other than inter-agency acquisitions required to be reported at 4.606(a)(1).

(11) Letters of obligation used in the A-76 process.

(d) Actions not subject to the FAR. Agencies not subject to the FAR may be required by other authority (e.g., statute, OMB, or internal agency policy) to report certain information to FPDS. When this is applicable, agencies must first receive approval from the GSA FPDS Program Office.

7. Amend section 4.607 by revising the section heading and paragraph (a); by redesignating paragraph (b) as paragraph (c); and adding a new paragraph (b) to read as follows:

4.607 Solicitation provisions and contract clause.

(a) Insert the provision at 52.204-6, Data Universal Numbering System (DUNS) Number, in solicitations that do not contain the provision at 52.204-7, Central Contractor Registration, or meet any exception at 4.605(c)(2).

(b) Insert the clause at 52.204-XX, Data Universal Numbering System (DUNS) Number Maintenance, in solicitations and resulting contracts that contain the provision at 52.204-6, Data Universal Numbering System (DUNS).

* * * * *

7. Amend section 4.1102 by—

a. Amending paragraph (a)(1) by—

1. Revising paragraph (a)(1);

2. Removing from paragraph (3)(i) “; or” adding “or” in its place;

3. Redesignating paragraph (3)(ii) as paragraph (3)(iii);

4. Adding a new paragraph (3)(ii);

5. Redesignating paragraphs (4) through (6) as paragraphs (5) through (7);

6. Adding a new paragraph (4); and

7. Revising the newly redesignated paragraph (6); and

b. Removing from paragraph (b) “or (a)(4)”.

The revised and added text reads as follows:

4.1102 Policy.

(a) * * *

(1) Purchases under the micro-purchase threshold that use a Governmentwide commercial purchase card as both the purchasing and payment mechanism, as opposed to using the purchase card for payment only;

* * * * *

(3) * * *

(ii) Contracting officers located outside the United States and its outlying areas, as defined in 2.101, for work to be performed in support of diplomatic or developmental operations, including those performed in support of foreign assistance programs overseas, in an area that has been designated by the Department of State as a danger pay post (see http://aoprals.state.gov/Web920/danger_pay_all.asp); or

* * * * *

(4) Contracts with individuals for performance overseas;

* * * * *

(6) Contract awards at or below $25,000 awarded outside the United States to foreign vendors for work performed outside the United States, if it is impractical to obtain CCR registration; and

* * * * *

8. Amend section 4.1103 by—

a. Removing from paragraph (a)(2)(i) “http://www.ccr.gov,” and adding “http://www.fsd.gov;” in its place;

b. Removing paragraph (a)(2)(ii), and redesignating paragraph (a)(2)(iii) as (a)(2)(ii);

c. Removing from paragraph (b)(2) the period and adding “; or” in its place; and

d. Adding a new paragraph (b)(3).

The added text reads as follows:

4.1103 Procedures.

* * * * *

(b) * * *

(3) If the contract action is being awarded pursuant to 6.302-2, the contractor must be registered in CCR within 30 days after contract award, or before three days prior to submission of the first invoice, whichever occurs first.

9. Revise section 4.1105 to read as follows:

4.1105 Solicitation provision and contract clauses.

(a)(1) Except as provided in 4.1102(a), use the provision at 52.204-7, Central Contractor Registration, in solicitations.

(2) If the solicitation is anticipated to be awarded in accordance with 4.1102(a)(5), the contracting officer shall use the provision at 52.204-7, Central Contractor Registration with its Alternate I.

(b)(1) Insert the clause at 52.204-YY, Central Contractor Registration Maintenance, in solicitations that contain the provision at 52.204-7, and resulting contracts.

4.1402 [Amended]

10. Amend section 4.1402 by removing from paragraph (b) “4.605(b)(2)” and adding “4.605(c)(2)” in its place.

PART 19—SMALL BUSINESS PROGRAMS

19.708 [Amended]

11. Amend section 19.708 by removing from paragraph (b)(1)(iii) “or 4.606(c)(5) and adding “4.606(c)(5) or (c)(6)” in its place.

PART 52—SOLICITATION PROVISIONS AND CLAUSES

52.204-5 [Amended]

12. Amend section 52.204-5 by removing from the introductory text “4.607(b)” and adding “4.607(c)” in its place.

13. Amend section 52.204-6 by revising the date of the provision; and redesignating paragraphs (a) and (b) as paragraphs (b) and (c), respectively; and adding a new paragraph (a) to read as follows:

52.204-6 Data Universal Numbering System (DUNS) Number.

* * * * *

Data Universal Numbering System (DUNS) Number (Date)

(a) Definition. Data Universal Numbering System (DUNS) number, as used in this provision, means the 9-digit number assigned by Dun and Bradstreet, Inc. (D&B) to identify unique business entities, which is used as the identification number for Federal contractors.

* * * * *

14. Amend section 52.204-7 by

a. Revising the introductory text;

b. Revising the date of the provision;

c. Removing from the introductory text of paragraph (a) “clause” and adding “provision” in its place;

d. Amending the definition “Registered in the CCR database” by removing from paragraphs (1) and (2) “Contractor” and adding “offeror” in its place;

e. Removing paragraphs (f) and (g);

f. Redesignating paragraph (h) as paragraph (f); and revising the newly designated paragraph (f); and

g. Adding Alternate I.

The revised and added text reads as follows:

52.204-7 Central Contractor Registration.

As prescribed in 4.1105(a), use the following provision.

Central Contractor Registration (Date)

* * * * *

(f) Offerors may obtain information on registration and annual confirmation requirements via the Internet at http://www.fsd.gov.

(End of provision)

Alternate I (DATE). As prescribed in 4.1105(b), substitute the following paragraph (b)(1) for paragraph (b)(1) of the basic provision:

(b)(1) By submission of an offer, the offeror acknowledges the requirement that a prospective awardee shall be registered in the CCR database prior to award, during performance, and through final payment of any contract, basic agreement, basic ordering agreement, or blanket purchasing agreement resulting from this solicitation. If registration prior to award is not possible, the awardee shall be registered in the CCR database within 30 days after award or before three days prior to submission of the first invoice, whichever occurs first.

15. Add sections 52.204-XX and 52.204-YY to read as follows:

52.204-XX Data Universal Numbering System (DUNS) Number Maintenance.

As prescribed in 4.607(b), insert the following clause:

Data universal Numbering System (DUNS) Number Maintenance (Date)

(a) Definition. Data Universal Numbering System (DUNS) number as used in this clause, means the 9-digit number assigned by Dun and Bradstreet, Inc. (D&B) to identify unique business entities, which is used as the identification number for Federal Contractors.

(b) The Contractor shall ensure that the DUNS number is maintained with Dun & Bradstreet throughout the life of the contract. The Contractor shall communicate any change to the DUNS number to the Contracting Officer within 30 days after the change, so an appropriate modification can be issued to update the data on the contract. A change in the DUNS number does not necessarily require a novation be accomplished. Dun & Bradstreet may be contacted—

(1) Via the Internet at http://fedgov.dnb.com/webform or if the Contractor does not have Internet access, it may call Dun and Bradstreet at 1-(866) 705-5711 if located within the United States; or

(2) If located outside the United States, by contacting the local Dun and Bradstreet office.

(End of clause)

52.204-YY Central Contractor Registration Maintenance.

As prescribed in 4.1105(b), use the following clause:

Central Contractor Registration Maintenance (Date)

(a) Definitions. As used in this clause—

Central Contractor Registration (CCR) database means the primary Government repository for Contractor information required for the conduct of business with the Government.

Data Universal Numbering System (DUNS) number means the 9-digit number assigned by Dun and Bradstreet, Inc. (D&B) to identify unique business entities, which is used as the identification number for Federal Contractors.

Data Universal Numbering System+4 (DUNS+4) number means the DUNS number assigned by D&B plus a 4-character suffix that may be assigned by a business concern. (D&B has no affiliation with this 4-character suffix.) This 4-character suffix may be assigned at the discretion of the business concern to establish additional CCR records for identifying alternative Electronic Funds Transfer (EFT) accounts (see subpart 32.11) for the same concern.

Registered in the CCR database means that—

(1) The Contractor has entered all mandatory information, including the DUNS number or the DUNS+4 number, into the CCR database; and

(2) The Government has validated all mandatory data fields, to include validation of the Taxpayer Identification Number (TIN) with the Internal Revenue Service (IRS), and has marked the record “Active”. The Contractor will be required to provide consent for TIN validation to the Government as a part of the CCR registration process.

(b) The Contractor is responsible for the accuracy and completeness of the data within the CCR database, and for any liability resulting from the Government's reliance on inaccurate or incomplete data. To remain registered in the CCR database after the initial registration, the Contractor is required to review and update on an annual basis from the date of initial registration or subsequent updates its information in the CCR database to ensure it is current, accurate, and complete. Updating information in the CCR does not alter the terms and conditions of this contract and is not a substitute for a properly executed contractual document.

(c)(1)(i) If a Contractor has legally changed its business name, “doing business as” name, or division name (whichever is shown on the contract), or has transferred the assets used in performing the contract, but has not completed the necessary requirements regarding novation and change-of-name agreements in subpart 42.12, the Contractor shall provide the responsible Contracting Officer a minimum of one business day's written notification of its intention to-

(A) Change the name in the CCR database;

(B) Comply with the requirements of subpart 42.12; and

(C) Agree in writing to the timeline and procedures specified by the responsible Contracting Officer. The Contractor shall provide with the notification sufficient documentation to support the legally changed name.

(ii) If the Contractor fails to comply with the requirements of paragraph (c)(1)(i) of this clause, or fails to perform the agreement at paragraph (c)(1)(i)(C) of this clause, and, in the absence of a properly executed novation or change-of-name agreement, the CCR information that shows the Contractor to be other than the Contractor indicated in the contract will be considered to be incorrect information within the meaning of the “Suspension of Payment” paragraph of the electronic funds transfer (EFT) clause of this contract.

(2) The Contractor shall not change the name or address for EFT payments or manual payments, as appropriate, in the CCR record to reflect an assignee for the purpose of assignment of claims (see subpart 32.8, Assignment of Claims). Assignees shall be separately registered in the CCR database. Information provided to the Contractor's CCR record that indicates payments, including those made by EFT, to an ultimate recipient other than that Contractor will be considered to be incorrect information within the meaning of the “Suspension of payment” paragraph of the EFT clause of this contract.

(3) The Contractor shall ensure that the DUNS number is maintained with Dun & Bradstreet throughout the life of the contract. The Contractor shall communicate any change to the DUNS number to the Contracting Officer within 30 days after the change, so an appropriate modification can be issued to update the data on the contract. A change in the DUNS number does not necessarily require a novation be accomplished. Dun & Bradstreet may be contacted—

(i) Via the Internet at http://fedgov.dnb.com/webform or if the Contractor does not have Internet access, it may call Dun and Bradstreet at 1-(866) 705-5711 if located within the United States; or

(ii) If located outside the United States, by contacting the local Dun and Bradstreet office.

(d) Contractors may obtain additional information on registration and annual confirmation requirements via the Internet at http://www.fsd.gov.

(End of clause)

16. Amend section 52.212-1 by revising the date of the provision; and by removing from paragraph (k) “http://www.ccr.gov or by calling 1-(888) 227-2423 or (269)-961-5757.” and by adding “http://www.fsd.gov.” in its place. The revised text reads as follows:

52.212-1 As prescribed in 12.301(b)(1), insert the following provision:

Instructions to Offerrors-Commercial items (Date)

* * * * *

17. Amend section 52.212-4 by revising the date of the clause; and removing from paragraph (t)(4) the words “http://www.ccr.gov or by calling 1-(888) 227-2423 or (269) 961-5757.” and adding “http://www.fsd.gov.” in its place. The revised text reads as follows:

52.212-4 Contract Terms and Conditions—Commercial Items.

* * * * *

Contract Terms and Conditions—Commercial Items (Date)

* * * * *

[FR Doc. 2011-30622 Filed 11-28-11; 8:45 am]

BILLING CODE 6820-EP-P